DEPARTMENT OF AGRICULTURE

Submission for OMB Review; Comment Request

October 2, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 6, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal Plant and Health Inspection Service

Title: Environmental Monitoring Form.

OMB Control Number: 0579-0117.

Summary of Collection: The mission of the Animal and Plant Health Inspection Service (APHIS) is to provide leadership in ensuring the health and care of animals and plants, to improve the agricultural productivity and competitiveness, and to contribute to the national economy and the public health. The National Environmental Policy Act (NEPA), 42 U.S.C. 4321 et seq., and the regulations of the Council on Environmental Quality that implements the procedural aspects of NEPA (40 CFR 1500-1508). APHIS' regulations require APHIS to implement environmental monitoring for certain activities conducted for pest and disease, control and eradication programs. APHIS Form 2060, Environmental Monitoring Form, will be used to collect information concerning the effects of pesticide used in sensitive habitats.

Need and Use of the Information: APHIS will collect information on the number of collected samples, description of the samples, the environmental conditions at the collection site including wind speed and direction, temperature, and topography. The supporting information contained on the APHIS form 2060 is vital for interpreting the laboratory tests APHIS conducts on its collected samples. If a sample was not accompanied by this form, APHIS would have no way of knowing from which site the sample was taken. Failure to collect this information would prevent APHIS from actively monitoring the effects of pesticides in areas where the inappropriate use of these chemicals could eventually produce disastrous results for vulnerable habitats and species. If information is not collected frequently enough, APHIS' ability to effectively monitor chemical residues in the environment is compromised.

Description of Respondents: State, Local or Tribal Government; Business or other for-profit.

Number of Respondents: 110.

Frequency of Responses: Reporting: On occasion.

Total Burden Hours: 1,100.

Animal and Plant Health Inspection Service

Title: Highly Pathogenic Avian Influenza, All Subtypes, and Newcastle Disease; Additional Restrictions.

OMB Control Number: 0579-0245.

Summary of Collection: The Animal Health Protection Act (AHPA), 7 U.S.C. 8301, is the primary Federal law governing the protection of animal health. The law gives the Secretary of Agriculture broad authority to detect, control, or eradicate pests or diseases of livestock or poultry. The agency charged with carrying out this disease prevention mission is the Animal and Plant Health Inspection Service (APHIS), through its Veterinary Services (VS) Program. Highly pathogenic avian influenza (HPAI) and Newcastle Disease are extremely infectious and often fatal disease affecting all types of birds and poultry.

Need and Use of the Information: To protect the United States against an incursion of HPAI and Newcastle Disease, APHIS requires the use of several information collection activities, including an USDA-APHIS-VS Application For Permit To Import or Transport Controlled Materials or Organisms or Vectors (VS Form 16-3); a United States Veterinary Permit for Importation and Transportation of Controlled Materials and Organisms and Vectors (VS Form 16-6A); an Approved Warehouse Request And Agreement To Handle Restricted Animal Byproducts (Hunting Trophies & Museum Specimens) (VS Form 16-28); Approved Establishment Request And Agreement To Handle Restricted Animal Byproducts (Hunting Trophies & Museum Specimens) (VS Form 16-29); USDA-APHIS-VS Report of Entry, Shipment of Restricted Imported Animal Products and Animal By-Products, and Other Material (VS Form 16-78); USDA-APHIS-VS Application for Import or in Transit Permit (Animals, Animal Semen, Animal Embryos, Birds, Poultry, and Hatching Eggs) (VS Form 17-129); USDA-APHIS Agreement of Pet Bird Owner (VS Form 17-8); application of seals and agreements; notarized declaration or affirmation; notification of signs of disease in a recently imported bird; cooperative service agreements, and recordkeeping by processing establishments. APHIS will collect information to ensure that U.S. birds and poultry undergo appropriate examinations before entering the United States. Without the information, it would be impossible for APHIS to establish an effective line of defense against an introduction of HPAI and Newcastle Disease.

Description of Respondents: Individuals or households; Business or other for-profit; Not-for-profit institutions; Federal Government.

Number of Respondents: 973.

Frequency of Responses: Reporting and Recordkeeping: On occasion.

Total Burden Hours: 1,932.

Animal and Plant Health Inspection Service

Title: Citrus Canker; Interstate Movement of Regulated Nursery Stock and Fruit from Quarantined Areas.

OMB Control Number: 0579-0317.

Summary of Collection: Under the Plant Protection Act (7 U.S.C. 7701, et seq.), the Secretary of Agriculture, either independently or in cooperation with the States, is authorized to carry out operations or measures to detect, eradicate, suppress, control, prevent, or retard the spread of plant pests new to or widely distributed throughout the United States. The interstate movement of nursery stock from an area quarantined for citrus canker poses an extremely high risk of spreading citrus canker outside the quarantined area. The Animal and Plant Health Inspection Service (APHIS) has regulations in place to prevent the interstate spread of citrus canker. These regulations, contained in 7 CFR 301.75, restrict the interstate movement of regulated articles from and through quarantined areas and prohibit the interstate movement of regulated nursery stock from a quarantined area.

Need and Use of the Information: APHIS uses compliance agreements, limited permits, certificates, and appeal processes to control the movements. Failure to collect required information for the documents could result in severe economic loss to the citrus industry due to the spread of the citrus canker disease.

Description of Respondents: Businesses or other for-profit.

Number of Respondents: 402.

Frequency of Responses: Reporting: On occasion.

Total Burden Hours: 2,840.

Ruth Brown,
Departmental Information Collection Clearance Officer.

[FR Doc. 2020-22123 Filed 10-6-20; 8:45 am]

BILLING CODE 3410-34-P